DEPARTMENT OF HOMELAND SECURITY

Coast Guard

[Docket No. USCG-2013-0522]

Tank Vessel Oil Transfers

AGENCY: Coast Guard, DHS.

ACTION: Notice and request for comments.

SUMMARY: The Coast Guard announces that it is considering new measures to reduce the risks of oil spills in oil transfer operations from or to a tank vessel, and requests public input on measures that can be implemented to reduce these risks. The Coast Guard may use that input to inform future rulemaking efforts.

DATES: Comments and related material must either be submitted to our online docket via http://www.regulations.gov on or before November 22, 2013 or reach the Docket Management Facility by that date.

ADDRESSES: You may submit comments identified by docket number USCG-2013-0522 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this notice, call or email Ken Smith, Vessel and Facility Operating Standards Division (CG-OES-2), U.S. Coast Guard; telephone 202-372-1413, email Ken.A.Smith@uscg.mil. If you have questions on viewing or submitting material to the docket, call Barbara Hairston, Program Manager, Docket Operations, telephone 202-366-9826.

SUPPLEMENTARY INFORMATION:

Public Participation and Request for Comments

We encourage you to submit comments and related material on the topics and questions described in this notice. All comments received will be posted, without change, to http://www.regulations.gov and will include any personal information you have provided.

Submitting comments: If you submit a comment, please include the docket number for this notice (USCG-2013-0522) and provide a reason for each suggestion or recommendation. You may submit your comments and material online, or by fax, mail or hand delivery, but please use only one of these means. We recommend that you include your name and a mailing address, an email address, or a telephone number in the body of your document so that we can contact you if we have questions regarding your submission.

To submit your comment online, go to http://www.regulations.gov, type the docket number (USCG-2013-0522) in the “SEARCH” box and click “SEARCH.” Click on “Submit a Comment” on the line associated with this notice. If you submit your comments by mail or hand delivery, submit them in an unbound format, no larger than 8½ by 11 inches, suitable for copying and electronic filing. If you submit them by mail and would like to know that they reached the Facility, please enclose a stamped, self-addressed postcard or envelope. We will consider all comments and material received during the comment period.

Viewing the comments and material in the docket: To view comments and material on the docket, go to http://www.regulations.gov, type the docket number (USCG-2013-0522) in the “SEARCH” box and click “SEARCH.” Click on “Open Docket Folder” on the line associated with this notice. If you do not have access to the internet, you may view the docket online by visiting the Docket Management facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act, system of records notice regarding our public dockets in the January 17, 2008, issue of the Federal Register (73 FR 3316).

Background and Purpose

Currently, applicable regulations that address reducing the risk of oil spills exist in 33 CFR subchapter O and in 46 CFR subchapter D. Section 702 of the Coast Guard Authorization Act of 2010 requires the Coast Guard to promulgate additional regulations to reduce the risks of oil spills in operations involving the transfer of oil from or to a tank vessel (Pub. L. 111-281, codified at 46 U.S.C. 3703 Note). In accordance with section 702, the Coast Guard intends to focus on operations that have the highest risks of discharge, including operations at night and in inclement weather. We are considering whether or not to establish new or amend existing regulations for the use of equipment, such as putting booms in place for transfers, safety, and environmental impacts; and operational procedures such as manning standards, communication protocols, and restrictions on operations in high-risk areas. We are also taking into account the safety of personnel and effectiveness of available procedures and equipment for preventing or mitigating transfer spills.

Request for Comments

We seek public input and assistance in identifying appropriate issues to assist reducing the risks of oil spills in operations involving the transfer of oil from or to a tank vessel. We request input on the following questions:

1. In addition to operations at night and inclement weather, what other oil transfer operations to or from tank vessels have the highest risk of spilling oil?

2. What measures should the Coast Guard implement to reduce the spillage of oil from other high-risk operations conducted during oil transfer operations to or from tank vessels?

3. What measures should the Coast Guard implement to reduce spillage of oil from oil transfers conducted to or from tank vessels at night?

4. What measures should the Coast Guard implement to reduce spillage of oil from oil transfers conducted to or from tank vessels during periods of inclement weather?

5. What additional equipment should the Coast Guard require to reduce oil spills from oil transfers to or from tank vessels, improve safety for personnel involved in oil transfer operations to or from tank vessels, and protect the marine environment from oil spilled during oil transfers to or from tank vessels; and what requirements should the Coast Guard impose for use of the equipment to help reduce oil spilled during oil transfers to or from tank vessels?

6. What operational requirements (e.g., manning standards, communications protocols, and restrictions on operations in high-risk areas) should the Coast Guard require to reduce oil spills from oil transfers conducted to or from tank vessels?

7. What improvements are needed to ensure the safety of personnel involved in oil transfers conducted to or from tank vessels or in the cleanup of spills associated with oil transfers to or from tank vessels?

8. How effective are the existing procedures and equipment for preventing or mitigating oil spills from oil transferred to or from tank vessels?

9. How do existing federal requirements ¹ differ from state requirements for oil transfers conducted to or from tank vessels?

¹ For the purposes of this notice, “existing federal requirements” refers to 33 CFR subchapter O and 46 CFR subchapter D.

10. Does compliance with any known state oil transfer regulations interfere with existing federal requirements for prevention of pollution of oil transfers for vessels or facilities transfering oil to or from tank vessels?

11. What international and industry consensus standards should the Coast Guard consider incorporating or conforming to, to further prevent oil spills from tank vessels engaged in oil transfer operations?

12. Are there conflicts or areas of improvement with regard to regulations in Title 33 of the Code of Federal Regulations covering waterfront facility oil transfer regulations that will further prevent oil spills from oil transfered to or from tank vessels?

This notice is issued under authority of 5 U.S.C. 552(a), 33 U.S.C. 1231, and 46 U.S.C. 3703 Note.

F.J. Sturm,
Acting Director of Commercial Regulations and Standards, U.S. Coast Guard.

[FR Doc. 2013-24746 Filed 10-22-13; 8:45 am]

BILLING CODE 9110-04-P